DEPARTMENT OF COMMERCE

International Trade Administration

[A-583-853]

Certain Crystalline Silicon Photovoltaic Products From Taiwan: Preliminary Results; Preliminary Intent To Rescind and Partial Rescission of Antidumping Duty Administrative Review; and Preliminary Determination of No Shipments; 2019-2020

AGENCY: Enforcement and Compliance, International Trade Administration, Department of Commerce.

SUMMARY: The Department of Commerce (Commerce) preliminarily determines that 20 companies, including the mandatory respondents, the Inventec Solar Energy Corporation (ISEC) and E-TON Solar Tech. Co., Ltd. (E-TON) single entity (ISEC/E-TON entity), and United Renewable Energy Co., Ltd. (URE), producers and exporters of certain crystalline silicon photovoltaic products (solar products) from Taiwan, sold subject merchandise in the United States at prices below normal value during the period of review (POR) February 1, 2019, through January 31, 2020. Commerce preliminarily intends to rescind the antidumping administrative review with respect to one company, Inventec Energy Corporation (IEC). In addition, Commerce preliminarily determines that seven exporters had no shipments during the POR. Lastly, Commerce has rescinded the review initiated for five companies. We invite all interested parties to comment on these preliminary results.

DATES: Applicable April 29, 2021.

FOR FURTHER INFORMATION CONTACT: Thomas Martin and Zachary Shaykin, AD/CVD Operations, Office IV, Enforcement and Compliance, International Trade Administration, U.S. Department of Commerce, 1401 Constitution Avenue NW, Washington, DC 20230; telephone: (202) 482-3936 and (202) 482-2316, respectively.

SUPPLEMENTARY INFORMATION:

Background

Commerce is conducting an administrative review of the antidumping duty order on solar products from Taiwan,¹ in accordance with section 751(a)(1)(B) of Tariff Act of 1930, as amended (the Act). On April 8, 2020, in accordance with 19 CFR 351.221(c)(1)(i), we initiated this administrative review of the Order covering thirty-four producers and/or exporters of the subject merchandise.² On June 3, 2020, Commerce selected ISEC and URE as the mandatory respondents.³

¹ See Certain Crystalline Silicon Photovoltaic Products From Taiwan: Antidumping Duty Order, 80 FR 8596 (February 18, 2015) (Order).

² See Initiation of Antidumping and Countervailing Duty Administrative Reviews, 85 FR 19730 (April 8, 2020) (Initiation Notice).

³ See Memorandum, “2019-2020 Antidumping Duty Administrative Review of Certain Crystalline Silicon Photovoltaic Products from Taiwan: Respondent Selection,” dated June 3, 2020.

On April 24, 2020, Commerce tolled all deadlines in administrative reviews by 50 days.⁴ Subsequently, on July 21, 2020, Commerce tolled certain deadlines in administrative reviews by an additional 60 days.⁵ On February 8, 2021, we postponed the preliminary results of this review by 64 days until April 23, 2021.⁶ For a detailed description of the events that followed the initiation of this review, see the Preliminary Decision Memorandum.⁷

⁴ See Memorandum, “Tolling of Deadlines for Antidumping and Countervailing Duty Administrative Reviews in Response to Operational Adjustments Due to COVID-19,” dated April 24, 2020.

⁵ See Memorandum, “Tolling of Deadlines for Antidumping and Countervailing Duty Administrative Reviews,” dated July 21, 2020.

⁶ See Memorandum, “Certain Crystalline Silicon Photovoltaic Products from Taiwan: Extension of Deadline for Preliminary Results of the 2019-2020 Antidumping Duty Administrative Review,” dated February 8, 2021.

⁷ See Memorandum, “Decision Memorandum for the Preliminary Results and Partial Rescission of Antidumping Duty Administrative Review and Preliminary Determination of No Shipments: Certain Crystalline Silicon Photovoltaic Products from Taiwan; 2019-2020,” dated concurrently with, and hereby adopted by, this notice (Preliminary Decision Memorandum).

Scope of the Order

The merchandise covered by the Order is solar products. For a complete description of the scope of the Order, see the Preliminary Decision Memorandum.⁸

⁸ Id.; see also Order.

Methodology

Commerce is conducting this review in accordance with section 751(a) of the Act. Export prices are calculated in accordance with section 772 of the Act and normal value is calculated in accordance with section 773 of the Act. For a full description of the methodology underlying these preliminary results, see the Preliminary Decision Memorandum. A list of topics discussed in the Preliminary Decision Memorandum is attached as an appendix to this notice.

The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/.

Preliminary Intent To Rescind Administrative Review in Part

Pursuant to 19 CFR 351.213(d)(3), it is Commerce's practice to rescind an administrative review with respect to a particular exporter or producer when Commerce concludes that it had no shipments (e.g., no reviewable entries of subject merchandise) during the POR subject to the antidumping duty order. At the end of an administrative review, the suspended entries are liquidated at the assessment rate computed for the review period.⁹ Therefore, for an administrative review to be conducted, there must be a reviewable, suspended entry to be liquidated at the newly calculated assessment rate.

⁹ See 19 CFR 351.212(b)(1).

On March 5, 2021, ISEC reported that IEC ceased business operations, and was dissolved and liquidated prior to the POR.¹⁰ As such, Commerce has preliminarily concluded that IEC had no shipments during the POR. Thus, Commerce preliminary intends to rescind this administrative review with respect to IEC pursuant to 19 CFR 351.213(d)(3). Consistent with Commerce's practice,¹¹ Commerce intends to complete the review and issue appropriate instructions to U.S. Customs and Border Protection (CBP) based on the final results of this review.

¹⁰ See Memorandum, “Certain Crystalline Silicon Photovoltaic Products from Taiwan—Inventec's Sections A Supplemental Questionnaire Response,” dated March 5, 2021.

¹¹ See, e.g., Heavy Walled Rectangular Welded Carbon Steel Pipes and Tubes from the Republic of Turkey: Preliminary Results of Antidumping Duty Administrative Review and Preliminary Determination of No Shipments; 2017-2018, 84 FR 34863 (July 19, 2019) (Heavy Walled Pipe from Turkey), and accompanying Preliminary Decision Memorandum at 4.

Rescission of Administrative Review in Part

Section 351.213(d)(1) of Commerce's regulations provides that Commerce will rescind an administrative review, in whole or in part, if the party that requested the review withdraws its request for review within 90 days of the date of publication of the notice of initiation of the requested review. Commerce published the Initiation Notice on April 8, 2020.¹² On April 29, 2020, SunPower Manufacturing Oregon, LLC (the petitioner) withdrew its request for review of Sino-American Silicon Products Inc. (SAS) and Solartech Energy Corporation (Solartech).¹³ On May 20, 2020, Mega Sunergy Co., Ltd. (Mega) withdrew its request for review for itself.¹⁴ Because the review requests for SAS and Mega were timely withdrawn, and because no other party requested a review of SAS and Mega, we are rescinding the reviews with respect to SAS and Mega.

¹² See Initiation Notice.

¹³ See Petitioner's Letter, “Certain Crystalline Silicon Photovoltaic Products From Taiwan—Partial Withdrawal of Request for Administrative Review,” dated April 29, 2020.

¹⁴ See Mega's Letter, “Certain Crystalline Silicon Photovoltaic Products from Taiwan, Case No. A-583-853 WITHDRAWAL OF REQUEST FOR ADMINISTRATIVE REVIEW,” dated May 20, 2020.

Additionally, Commerce previously determined in a changed circumstances review that URE is the successor-in-interest to Solartech, as well as Gintech Energy Corporation (Gintech), and Neo Solar Power Corporation (Neo Solar).¹⁵ Therefore, because Solartech, Gintech, and Neo Solar are no longer in existence, Commerce is partially rescinding this administrative review with respect to Solartech, Gintech, and Neo Solar, in accordance with 19 CFR 351.213(d)(3). The review will continue with respect to all other entities listed in the Initiation Notice.

¹⁵ See Certain Crystalline Silicon Photovoltaic Products From Taiwan: Notice of Final Results of Antidumping Duty Changed Circumstances Review, 84 FR 37836 (August 2, 2019).

Preliminary Determination of No Shipments

Seven producers and/or exporters under review properly filed a certification reporting that they made no shipments of subject merchandise during the POR: (1) AU Optronics Corporation; (2) Canadian Solar Inc.; (3) Canadian Solar International, Ltd.; (4) Canadian Solar Manufacturing (Changshu), Inc.; (5) Canadian Solar Manufacturing (Luoyang), Inc.; (6) Canadian Solar Solution Inc.; and (7) Vina Solar Technology Co., Ltd.¹⁶ CBP did not have any information to contradict these claims of no shipments during the POR.¹⁷ Therefore, we preliminarily determine that these companies did not have shipments of subject merchandise during the POR. Consistent with Commerce's practice,¹⁸ Commerce finds that it is not appropriate to rescind the review with respect to these seven companies, but rather to complete the review and issue appropriate instructions to CBP based on the final results of this review.

¹⁶ See Preliminary Decision Memorandum at 3.

¹⁷ Id. at 7.

¹⁸ See, e.g., Heavy Walled Pipe from Turkey Preliminary Decision Memorandum at 4.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a less-than-fair-value investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In this review, we have preliminarily calculated weighted-average dumping margins for the combined entity of ISEC and E-TON,¹⁹ and URE, that are not zero, de minimis, or determined entirely on the basis of facts available. Accordingly, we have preliminarily assigned to the companies not individually examined in this review a margin of 11.32 percent, which is the weighted-average of the dumping margins calculated using the public ranged sales data of ISEC and E-TON, and URE.

¹⁹ As discussed in the Preliminary Decision Memorandum, Commerce has preliminarily determined to collapse Inventec Solar Energy Corporation and E-TON Solar Tech. Co., Ltd., and treat these companies as a single entity, in accordance with 19 CFR 351.401(f).

Preliminary Results of the Review

We preliminarily assign the following weighted-average dumping margins to the firms listed below for the period February 1, 2019, through January 31, 2020:

Producers/exporters | Weighted- average dumping margin (percent)
Inventec Solar Energy Corporation and E-TON Solar Tech. Co., Ltd | 32.54
United Renewable Energy Co., Ltd | 1.27

Review-Specific Average Rate Applicable to the Following Companies:

Producers/exporters | Weighted- average dumping margin (percent)
Baoding Jiasheng Photovoltaic Technology Co. Ltd | 11.32
Baoding Tianwei Yingli New Energy Resources Co., Ltd | 11.32
Beijing Tianneng Yingli New Energy Resources Co. Ltd | 11.32
Boviet Solar Technology Co., Ltd | 11.32
EEPV CORP | 11.32
Hainan Yingli New Energy Resources Co., Ltd | 11.32
Hengshui Yingli New Energy Resources Co., Ltd | 11.32
Kyocera Mexicana S.A. de C.V | 11.32
Lixian Yingli New Energy Resources Co., Ltd | 11.32
Motech Industries, Inc | 11.32
Shenzhen Yingli New Energy Resources Co., Ltd | 11.32
Sunengine Corporation Ltd | 11.32
Sunrise Global Solar Energy | 11.32
Tianjin Yingli New Energy Resources Co., Ltd | 11.32
TSEC Corporation | 11.32
Win Win Precision Technology Co., Ltd | 11.32
Yingli Energy (China) Co., Ltd | 11.32
Yingli Green Energy International Trading Company Limited | 11.32

Assessment Rates

Upon issuance of the final results, Commerce will determine, and CBP shall assess, antidumping duties on all appropriate entries covered by this review.²⁰ The final results of this review shall be the basis for the assessment of antidumping duties on entries of merchandise covered by this review and for future deposits of estimated duties, where applicable.²¹ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁰ See 19 CFR 351.212(b).

²¹ See section 751(a)(2)(C) of the Act.

Pursuant to 19 CFR 351.212(b)(1), where an examined respondent's weighted-average dumping margin is not zero or de minimis (i.e., less than 0.5 percent), we calculated an importer-specific ad valorem duty assessment rate based on the ratio of the total amount of dumping calculated for the U.S. sales for a given importer to the total entered value of those sales. Where the mandatory respondent did not report entered value, we calculated the entered value in order to calculate the assessment rate. Where either the respondent's weighted-average dumping margin is zero or de minimis within the meaning of 19 CFR 351.106(c)(1), or an importer-specific assessment rate is zero or de minimis, we will instruct CBP to liquidate the appropriate entries without regard to antidumping duties.

For the companies that were not selected for individual examination, we will instruct CBP to assess antidumping duties at an ad valorem rate equal to each company's weighted-average dumping margin determined in the final results of this review.

For entries of subject merchandise during the POR produced by the ISEC/E-TON entity or URE for which these companies did not know that its merchandise was destined for the United States and for all entries attributed to the companies that we find had no shipments during the POR, we will instruct CBP to liquidate such unreviewed entries pursuant to the reseller policy,²² i.e., the assessment rate for such entries will be equal to the all-others rate established in the investigation (i.e., 19.50 percent),²³ if there is no rate for the intermediate company(ies) involved in the transaction.

²² See Antidumping and Countervailing Duty Proceedings: Assessment of Antidumping Duties, 68 FR 23954 (May 6, 2003).

²³ See Certain Crystalline Silicon Photovoltaic Products from Taiwan: Final Determination of Sales at Less Than Fair Value, 79 FR 76966, 796969 (December 23, 2014) (Final Determination).

Cash Deposit Requirements

The following deposit requirements will be effective for all shipments of the subject merchandise entered, or withdrawn from warehouse, for consumption on or after the publication date of the final results of this administrative review, as provided by section 751(a)(2)(C) of the Act: (1) The cash deposit rate for each specific company listed above will be equal to each company's weighted-average dumping margin established in the final results of this review, (except if the ad valorem rate is de minimis within the meaning of 19 CFR 351.106(c)(1), in which case the cash deposit rate will be zero); (2) for previously investigated companies not participating in this review, the cash deposit will continue to be the company-specific rate published for the most recently completed segment of this proceeding in which the company participated; (3) if the exporter is not a firm covered in this review, or the underlying investigation, but the producer is, then the cash deposit rate will be the rate established for the completed segment for the most recent POR for the producer of the merchandise; and (4) the cash deposit rate for all other producers or exporters will continue to be 19.50 percent, the all-others rate established in the underlying investigation.²⁴

²⁴ See Final Determination.

These deposit requirements, when imposed, shall remain in effect until further notice.

Disclosure and Public Comment

Commerce intends to disclose the calculations performed in connection with these preliminary results to interested parties within five days after the date of publication of this notice in accordance with 19 CFR 351.224(b).

Interested parties may submit case briefs no later than 30 days after the date of publication of this notice.²⁵ Rebuttal briefs, limited to issues raised in the case briefs, may be filed not later than seven days after the time limit for filing case briefs.²⁶ Parties who submit case briefs or rebuttal briefs in this proceeding are encouraged to submit with each argument: (1) A statement of the issue; (2) a brief summary of the argument; and (3) a table of authorities.²⁷ Executive summaries should be limited to five pages total, including footnotes. Case and rebuttal briefs should be filed using ACCESS and must be served on interested parties.²⁸ Note that Commerce has temporarily modified certain of its requirements for serving documents containing business proprietary information, until further notice.²⁹

²⁵ See 19 CFR 351.309(c)(1)(ii); see also 19 CFR 351.303 (for general filing requirements).

²⁶ See 19 CFR 351.309(d)(1).

²⁷ See 19 CFR 351.309(c)(2) and (d)(2).

²⁸ See 19 CFR 351.303.

²⁹ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. Hearing requests should contain: (1) The party's name, address, and telephone number; (2) the number of participants; and (3) a list of issues to be discussed. Issues raised in the hearing will be limited to issues raised in the briefs. If a request for a hearing is made, Commerce intends to hold the hearing at a time and date to be determined.³⁰ Parties should confirm by telephone the date, time, and location of the hearing two days before the scheduled date.

³⁰ See 19 CFR 351.310(c).

An electronically-filed request for a hearing must be received successfully in its entirety by ACCESS by 5 p.m. Eastern Time within 30 days after the date of publication of this notice.³¹ Commerce intends to issue the final results of this administrative review, including the results of its analysis of issues raised in all written briefs, not later than 120 days after the publication of these preliminary results in the Federal Register pursuant to section 751(a)(3)(A) of the Act and 19 CFR 351.213(h)(1), unless otherwise extended.³²

³¹ See 19 CFR 351.310(c); see also 19 CFR 351.303(b)(1).

³² See section 751(a)(3)(A) of the Act.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act, and 19 CFR 351.213(d)(4) and 351.221(b)(4).

Dated: April 23, 2021.
James Maeder,
Deputy Assistant Secretary for Antidumping and Countervailing Duty Operations.

Appendix

List of Topics Discussed in the Preliminary Decision Memorandum

I. Summary

II. Background

III. Scope of the Order

IV. Affiliation and Collapsing

V. Preliminary Intent to Partially Rescind Administrative Review

VI. Partial Rescission of Administrative Review

VII. Preliminary Determination of No Shipments

VIII. Companies Not Selected for Individual Examination

IX. Discussion of the Methodology

X. Currency Conversion

XI. Recommendation

[FR Doc. 2021-08921 Filed 4-28-21; 8:45 am]

BILLING CODE P